DEPARTMENT OF TRANSPORTATION

Federal Highway Administration

Environmental Impact Statement, Canyon and Ada Counties, ID State Highway 44 (SH-44) Corridor Preservation Study

AGENCY: Federal Highway Administration (FHWA), U.S. DOT.

ACTION: Letter of Project Initiation; Notice of Intent to prepare an Environmental Impact Statement (EIS); for the preservation of right-of-way to construct additional travel lanes and other improvements to approximately 17 miles of SH-44 from Exit 25 at Interstate 84 (I-84) in Canyon County to Ballantyne Lane in Ada County.

SUMMARY: The FHWA hereby gives notice that it intends to prepare an EIS for the proposed preservation of right-of-way for the construction of projects that would increase surface transportation capacity (additional travel lanes, intersection improvements) and improve operating conditions and safety (access management improvements) for both near-term and long-term needs. This EIS is being prepared and considered in accordance with the National Environmental Policy Act (NEPA) of 1969, regulations of the Council on Environmental Quality (40 CFR parts 150-1508), and FHWA regulations, guidance and policy.

Anticipated Federal approvals/actions needed for this project to be constructed include permits for sections 401 and 404 of the Clean Water Act (U.S. Army Corps of Engineers) and compliance with section 4(f) of the Department of Transportation Act, section 7 of the Endangered Species Act and section 106 of the national Historic Preservation Act.

Cooperating Agencies: There are no cooperating agencies identified for this project.

DATES: Public comments and questions are welcome anytime during the NEPA process and should be directed to the address listed below. Additional formal opportunities for public participation are tentatively scheduled as follows:

Review and comment of Draft EIS (including a public hearing): Fall 2008. Review of Final EIS: Spring 2009.

Notices of availability for the Draft EIS, Final EIS and Record of Decision will be provided through direct mail, the Federal Register and other media. Notification also will be sent o Federal, State, local agencies, persons, and organizations that submit comments or questions. Precise schedules and locations for public meetings will be announced in the local news media. Interested individuals and organizations may request to be included on the mailing list for the distribution of meeting announcements and associated information.

FOR FURTHER INFORMATION CONTACT: Edwin Johnson, Field Operations Engineer; Federal Highway Administration, 3050 Lake Harbor Lane, Suite 126, Boise, Idaho 83703, Telephone: (208) 334-9180.

SUPPLEMENTARY INFORMATION:

Electronic Access

An electronic copy of this document may be downloaded using a modem and suitable communications software from the Government Printing Office's Electronic Bulletin Board Service at (202) 512-1661. Internet users may reach the Office of the Federal Register's home page at http://nara.gov/fedreg and the Government Printing Office's database at: http://access.gpo. gov.nara.

Background

Recommendations for improvements along this corridor are identified in the regional long-range transportation plan, “Communities in Motion,” prepared by the Boise-Nampa Metropolitan Planning Organization, Community Planning Association of Southwest Idaho (COMPASS) and adopted by the COMPASS board in August 2006.

SH-44 lies in an important east/west corridor connecting Ada and Canyon counties from the city of Eagle to the highway's junction with I-84 in Canyon County. The once rural areas along the highway are changing from farms and orchards to subdivisions and businesses. The highway runs through the central business districts of the cities of Star and Middleton. The speed is gradually decreased from 55 to 25 mph within city limits. It is one of only three main highways that carry traffic directly from the city of Caldwell to Boise. Growth and development have resulted in higher traffic volumes and congestion.

The city of Middleton has identified a need for a bypass of its downtown area and has preliminary plans for a route south of town. There has been discussion about a bypass for the city of Star, but the level of support for this has not been determined.

Public scoping meetings on this project were held from 4 p.m. to 8 p.m. on May 24, 2006 in Middleton, ID, and May 25, 2006 in Eagle, ID, to solicit public comment regarding the full spectrum of issues and concerns, including the need for the project, alternate routes around the cities of Middleton and Star, access management, and environmental issues to be considered in the analysis. Attendees were informed at the meeting that an EIS would be prepared for the corridor preservation study.

The EIS will examine the short and long-term impacts of a reasonable range of alternatives, including the no action alternative, on the natural, physical, and human environments. The impacts assessment will include, but not be limited to, impacts on wetlands, wildlife; social environment; changes in land use; noise, aesthetics; changes in traffic; and economic impacts. Environmental Justice (as outlined in Executive Order 12898) will also be addressed as part of the impact assessment. The EIS will also examine measures to mitigate adverse impacts resulting from the proposed action.

Comments are being solicited from Federal, State, and local agencies and from private organizations and citizens who have interest in this proposal. Public information meetings will be held in the project area to discuss the potential alignments and alternatives. The draft EIS will be available for public and agency review, and a public hearing will be held to receive comments. Public notice will be given of the time and place of all meetings and hearings.

Comments and/or suggestions from all interested parties are requested, to ensure that the purpose and need for the project, the full range of all issues, and significant environmental issues in particular, are identified and reviewed. Comments or questions concerning this proposed action and/or its EIS should be directed to the FHWA at the addresses listed previously.

(Catalog of Federal Domestic Assistance Program Number 20.205, Highway Research, Planning and Construction. The regulations implementing Executive Order 12372 regarding intergovernmental consultation on Federal programs and activities apply to this proposed action.)

Authority: 23 U.S.C. 315; 23 CFR 771.123; 49 CFR 1.48.

Peter J. Hartman,
Idaho Division Administrator, FHWA.

[FR Doc. 07-4195 Filed 8-27-07; 8:45 am]

BILLING CODE 4190-22-M